ARCTIC RESEARCH COMMISSION

Arctic Research Commission Meeting

August 20, 2001.

Notice is hereby given that the U.S. Arctic Research Commission will hold its 62nd Meeting in Anchorage, AK on September 10 and 11, 2001. The Business Session open to the public will convene at 9 a.m. Monday, September 10, in the Agenda items include:

(1) Call to order and approval of the Agenda.

(2) Approval of the Minutes of the 61st Meeting.

(3) Reports from Congressional Liaisons.

(4) Agency Reports.

The focus of the Meeting will be reports and updates on programs and research projects affecting the U.S. Arctic. Presentations include a review of the research needs for civil infrastructure in Alaska.

The Business Session will reconvene at 9 a.m. Tuesday, September 10. An Executive Session will follow adjournment of the Business Session.

Any person planning to attend this meeting who requires special accessibility features and/or auxiliary aids, such as sign language interpreters must inform the Commission in advance of those needs.

Contact Person for More Information: Dr. Garrett W. Brass, Executive Director, Arctic Research Commission, 703-525-0111 or TDD 703-306-0090.

Garrett W. Brass,
Executive Director.

[FR Doc. 01-21881 Filed 8-29-01; 8:45 am]

BILLING CODE 7555-01-M